DEPARTMENT OF THE INTERIOR

Minerals Management Service

Agency Information Collection Activities: Submitted for Office of Management and Budget (OMB) Review; Comment Request

AGENCY: Minerals Management Service (MMS), Interior.

ACTION: Notice of extension of an information collection (1010-0114).

SUMMARY: To comply with the Paperwork Reduction Act of 1995 (PRA), we are notifying the public that we have submitted to OMB an information collection request (ICR) to renew approval of the paperwork requirements in the regulations under 30 CFR 250, Subpart A, General, and related documents. This notice also provides the public a second opportunity to comment on the paperwork burden of these regulatory requirements.

DATES: Submit written comments by October 1, 2007.

ADDRESSES: You may submit comments either by fax (202) 395-6566 or email (OIRA_DOCKET@omb.eop.gov) directly to the Office of Information and Regulatory Affairs, OMB, Attention: Desk Officer for the Department of the Interior (1010-0114). Mail or hand carry a copy of your comments to the Department of the Interior; Minerals Management Service; Attention: Cheryl Blundon; Mail Stop 4024; 381 Elden Street; Herndon, Virginia 20170-4817. If you wish to email your comments to MMS, the address is: rules.comments@mms.gov. Reference Information Collection 1010-0114 in your subject line and mark your message for return receipt. Include your name and return address in your message text.

FOR FURTHER INFORMATION CONTACT: Cheryl Blundon, Regulations and Standards Branch, (703) 787-1607. You may also contact Cheryl Blundon to obtain a copy, at no cost, of the regulations and forms that require the subject collection of information.

SUPPLEMENTARY INFORMATION: Title: 30 CFR part 250, Subpart A, General.

Forms: MMS-132, MMS-1123, MMS-1832.

OMB Control Number: 1010-0114.

Abstract: The Outer Continental Shelf (OCS) Lands Act, as amended (43 U.S.C. 1331 et seq. and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The Independent Offices Appropriations Act (31 U.S.C. 9701), the Omnibus Appropriations Bill (Pub. L. 104-133, 110 Stat. 1321, April 26, 1996), and Office of Management and Budget (OMB) Circular A-25, authorize Federal agencies to recover the full cost of services that confer special benefits. Under the Department of the Interior's (DOI) implementing policy, the Minerals Management Service (MMS) is required to charge fees for services that provide special benefits or privileges to an identifiable non-Federal recipient above and beyond those which accrue to the public at large.

Regulations implementing these responsibilities are under 30 CFR part 250, subpart A, General. This request also covers the related Notices to Lessees and Operators (NTLs) that MMS issues to clarify and provide additional guidance on some aspects of our regulations. Responses are mandatory. No questions of a “sensitive” nature are asked. We protect proprietary information according to the Freedom of Information Act (5 U.S.C. 552) and its implementing regulations (43 CFR part 2), and 30 CFR 250.197, “Data and information to be made available to the public or for limited inspection.”

The MMS uses the information collected under the Subpart A regulations to ensure that operations on the OCS are carried out in a safe and pollution-free manner, do not interfere with the rights of other users on the OCS, and balance the protection and development of OCS resources. Specifically, we use the information collected to:

• Review records of formal crane operator training, rigger training, crane operator qualifications, crane inspections, testing, and maintenance to ensure that lessees perform operations in a safe and workmanlike manner and that equipment is maintained in a safe condition. The MMS also uses the information to make certain that all new and existing cranes installed on OCS fixed platforms must be equipped with anti-two block safety devices, and to assure that uniform methods are employed by lessees for load testing of cranes.

• Review welding, burning, and hot tapping plans, procedures, and records to ensure that these activities are conducted in a safe and workmanlike manner by trained and experienced personnel.

• Provide lessees greater flexibility to comply with regulatory requirements through approval of alternative equipment or procedures and departures to regulations if they demonstrate equal or better compliance with the appropriate performance standards.

• Determine the capability of a well to produce oil or gas in paying quantities or to determine the possible need for additional wells resulting in minimum royalty status on a lease. If a well does not yield hydrocarbons in sufficient quantity to warrant continued operation and production, MMS uses the information to verify the claim and to release the lessee from lease obligations. Conversely, the information is used to extend the term of the lease if additional wells will warrant continued operation and production.

• Ensure that injection of gas promotes conservation of natural resources, prevents waste, and that subsurface storage of natural gas does not unduly interfere with development and production operations under existing leases.

• Ensure the appropriateness of reimbursing lessees for costs incurred in reproducing geological and geophysical (G&G) data and information for submission to MMS and processing or reprocessing G&G information in a form and manner other than that normally used in the conduct of a lessee's business, or to determine the proper reimbursement of costs incurred during inspections.

• Record the designation of an operator authorized to act on behalf of the lessee and to fulfill the lessee's obligations under the OCS Lands Act and implementing regulations, or to record the local agent empowered to receive notices and comply with regulatory orders issued (Form MMS-1123).

• Determine if an application for right-of-use and easement serves the purpose specified in the grant when conducting exploration, development, and production activities or other operations on or off the lease; is maintained for such purposes; and does not unreasonably interfere with the operations of any other lessee.

• Provide for orderly development of leases through the use of information to determine the appropriateness of lessee requests for suspension of operations, including production. For example, MMS needs the information to determine that a suspension is necessary to: (1) Ensure proper lease development, (2) allow time to construct or negotiate use of transportation facilities, (3) allow reasonable time to enter into a sales contract, (4) allow for unavoidable situations, (5) avoid continued operations resulting in premature abandonment of a producing well(s) that would be uneconomic, (6) comply with the National Environmental Policy Act or to conduct an environmental analysis, (7) install equipment for safety and environmental protection, (8) allow time for inordinate delays encountered in obtaining required permits or consents, (9) comply with judicial decrees, or (10) avoid activities that pose a threat of serious, irreparable, or immediate harm.

• Improve safety and environmental protection on the OCS, through collection and analysis of accident reports to ascertain the cause of the accidents and, to determine ways to prevent recurrences.

• Ascertain when the lease ceases production or when the last well ceases production in order to determine the 180th day after the date of completion of the last production. This requirement is expanded in the final rule to include reporting when lease production is initiated, resumes before the end of the 180-day period after production ceased, and when leaseholding operations occur during the referenced 180-day interval. The MMS will use this information to efficiently maintain the lessee/operator lease status.

• Approve requests to cancel leases.

• Be informed when there could be a major disruption in the availability and supply of natural gas and oil due to natural occurrences/hurricanes, to advise the U.S. Coast Guard in case of the need to rescue offshore workers in distress, to monitor damage to offshore platforms and drilling rigs, and to advise the news media and interested public entities when production is shut in and when resumed. The OCS operations produce more than one-quarter of the Nation's natural gas and more than one-sixth of its oil, and it is essential to know when production is interrupted. The Gulf of Mexico Region (GOMR) uses a reporting form for respondents to report evacuation statistics when necessary (Form MMS-132, Evacuation Statistics). It is sent to respondents at the onset of each “hurricane season” in the GOMR.

• Allow operators who exhibit unacceptable performance an incremental approach to improving their overall performance prior to a final decision to disqualify an operator or to pursue debarment proceedings through the execution of a performance improvement plan (PIP). The Subpart A regulations do not address the actual process that we will follow in pursuing the disqualification of operators under §§ 250.135 and 250.136. However, our internal enforcement procedures include allowing such operators to demonstrate a commitment to acceptable performance by the submission of a PIP.

• Determine that respondents have corrected all Incidents of Non-Compliance (INC)(s) identified during inspections (Form MMS-1832). The MMS issues this form to the operator. The operator then corrects the INC(s) and returns the form to the MMS Regional Supervisor no later than 14 days.

• Review records of crane inspection, testing, maintenance, and crane operator qualifications to ensure that lessees perform operations in a safe and workmanlike manner and maintain equipment in a safe condition.

Frequency: The frequency is “on occasion” for most of the requirements in Subpart A. The Form MMS-132 is submitted daily during the period of emergency.

Estimated Number and Description of Respondents: Approximately 1 State and 130 Federal OCS oil and gas or sulphur lessees.

Estimated Hour and Fee Burden: The estimated annual “hour” burden for this information collection is a total of 36,239 hours. The following chart details the individual components and estimated hour burdens and fees. In calculating the burdens, we assumed that respondents perform certain requirements in the normal course of their activities. We consider these to be usual and customary and took that into account in estimating the burden.

Citation 30 CFR 250 subpart A and related forms/NTLs | Reporting or recordkeeping requirement | Fee: Hour burden | Fee: Average No. of annual responses | Fee: Annual burden hours
Authority and Definition of Terms
104; Form MMS-1832 | Appeal orders or decisions; appeal INCs | Exempt under 5 CFR 1320.4(a)(2), (c) |  | 0
Performance Standards
109(a); 110 | Submit welding, burning, and hot tapping plans | 2 | 133 plans | 266
115; 116 | Request determination of well producibility; submit data & information; notify MMS of test | 5 | 90 responses | 450
118; 119; 121; 124 | Apply for injection or subsurface storage of gas | 10 | 14 applications | 140
Subtotal | 237 responses | 856
Fees
125 | Service Fees | Fees covered individually throughout subpart. |  | 0
Forms
130-133; Form MMS-1832 | Submit “green” response copy of Form MMS-1832 indicating date violations (INCs) corrected | 2 | 1,529 forms | 3,058
143; 144; 145; Form MMS-1123 | Submit designation of operator (Form MMS-1123—15 mins. only); report change of address; notice of termination; submit designation of local agent | 1 | 1,470 forms | 1,470
|  | $150 fee x 1,470 = $220,500
192; Form MMS-132 | Daily report of evacuation statistics for natural occurrence/hurricane (Form MMS-132 in the GOMR) when circumstances warrant; inform MMS when you resume production | 1 | 1,800 reports or forms | 1,800
Subtotal | 4,799 responses | 6,328
| $220,500
Inspection of Operations
130-133 | Request reconsideration from issuance of an INC | 2 | 178 requests | 356
| Request waiver of 14-day response time. | 1 | 510 waivers | 510
| Notify MMS before returning to operations if shut-in | .5 | 976 notices | 488
133 | Request reimbursement for food, quarters, and transportation provided to MMS representatives (OCS Lands Act specifies reimbursement; no requests received in many years; minimal burden) | 2 | 12 requests | 24
Subtotal | 1,676 responses | 1,378
Disqualification
135 MMS internal process | Submit PIP under MMS implementing procedures for enforcement actions | 40 | 4 plans | 160
Special Types of Approval
140 | Request various oral approvals not specifically covered elsewhere in regulatory requirements | 1 | 360 requests | 360
141 | Request approval to use new or alternative procedures, including BAST not specifically covered elsewhere in regulatory requirements | 20 | 33 requests | 660
142 | Request approval of departure from operating requirements not specifically covered elsewhere in regulatory requirements | 3 | 62 requests | 186
Subtotal | 455 responses | 1,206
Naming and Identifying Facilities and Wells (Does Not Include MODUs)
150; 151; 152; 154(a) | Name and identify facilities, artificial islands, MODUs, etc., with signs | 2 | 149 new/ replacement signs | 298
150; 154(b) | Name and identify wells with signs | 1 | 1,016 new wells | 1,016
Subtotal | 1,165 responses | 1,314
Right-of-use and Easement
160; 161 | OCS lessees: Apply for new or modified right-of-use and easement to construct and maintain off-lease platforms, artificial islands, and installations and other devices; including notifications | 10 | 60 applications | 600
160(c) | Establish a Company File for qualification; submit updated information, submit qualifications for lessee/bidder, request exception | Burden covered under 1010-0006 |  | 0
165 | State lessees: Apply for new or modified right-of-use and easement to construct and maintain off-lease platforms, artificial islands, and installations and other devices | 5 | 2 applications | 10
|  | $2,350 state lease fee x 2 = $4,700
166 | State lessees: Furnish surety bond | Burden included with 30 CFR 256 (1010-0006). |  | 0
Subtotal | 62 responses | 610
| $4,700
Suspensions
168; 170; 171; 172; 174; 175; 177; 180(b), (d) | Request suspension of operations or production; submit schedule of work leading to commencement* | 10* | 325 requests* | 3,250
|  | $1,800 fee x 325 = $585,000
| Submit progress reports on SOO or SOP as condition of approval* | 3* | 1,070 reports* | 3,210
177(a) | Conduct site-specific study; submit results. No instances requiring this study in several years—could be necessary if a situation occurred such as severe damage to a platform or structure caused by a hurricane or a vessel collision | 100 | 1 study/report | 100
177(b), (c), (d); 182; 183, 185; 194 | Various references to submitting new, revised, or modified exploration plan, development/production plan, or development operations coordination document, and related surveys/reports | Burden included with 30 CFR 250, Subpart B (1010-0151). |  | 0
Subtotal | 1,396 responses | 6,560
| $585,000
Primary Lease Requirements, Lease Term Extensions, and Lease Cancellations
180(a), (f), (g), (h), (i), (j) | Notify and submit report on various leaseholding operations and lease production activities | 2 | 1,400 reports or notices | 2,800
180(a), (b), (c) | When requested, submit production data to demonstrate production in paying quantities to maintain lease beyond primary term | 6 | 70 submissions | 420
180(e) | Request more than 180 days to resume operations | 5 | 5 requests | 25
181(d); 182(b), 183(b)(2) | Request termination of suspension and cancellation of lease (no requests in recent years for termination/cancellation of a lease; minimal burden) | 20 | 2 requests | 40
184 | Request compensation for lease cancellation mandated by the OCS Lands Act (no qualified lease cancellations in many years; minimal burden compared to benefit) | 50 | 1 request | 50
Subtotal | 1,478 responses | 3,335
Information and Reporting Requirements
186; 187; 188(a); 189; 190(c) | Report to the District Manager immediately via oral communication and written follow-up within 15 calendar days, incidents pertaining to: Fatalities; injuries; LoWC; fires; explosions; all collisions resulting in property or equipment damage >$25K; structural damage to an OCS facility; cranes; incidents that damage or disable safety systems or equipment (including firefighting systems) | Oral .5 | 1,550 | 775
|  | Written 4 | 1,535 | 6,140
187(d) | Report all spills of oil or other liquid pollutants | Burden covered with 30 CFR 254 (1010-0091). |  | 0
188(a)(5) | Report to District Manager hydrogen sulfide (H2S) gas releases immediately by oral communication | Oral burden covered under 1010-0141. |  | 0
188(b); 190(a), (b) | Provide written report to the District Manager within 15 calendar days after incidents relating to: Injuries that result in 1 or more days away from work, on restricted work, or job transfer; gas releases that initiate equipment or process shutdown; property or equipment damage >$25K; operations personnel to muster for evacuation not related to weather or drills; any additional information required | 4 | 405 | 1,620
191 | Submit written statement/compensation re: accident investigation | Exempt under 3 CFR 1320.4(a)(2), (c). |  | 0
193 | Report apparent violations or non-compliance | 1.5 | 3 reports | 5 (rounded)
194 NTL exception requests | Request departures from conducting archaeological resources surveys and/or submitting reports in GOMR | 1 | 95 requests | 95
194(c) | Report archaeological discoveries (only one instance in many years; minimal burden). | 10 | 2 reports | 20
196 | Submit data/information for post-lease G&G activity and request reimbursement | Burden included with 30 CFR 251 (1010-0048). |  | 0
101-199 | General departure or alternative compliance requests not specifically covered elsewhere in Subpart A | 2 | 21 requests | 42
Subtotal | 3,611 responses | 8,697
Recordkeeping
108(e) | Retain records of design and construction for life of crane, including installation records for any anti-two block safety devices; all inspection, testing, and maintenance for at least 4 years; crane operator and all rigger personnel qualifications for at least 4 years | 2 | 2,562 recordkeepers | 5,124
109(b) | Retain welding, burning, and hot tapping plan and approval for the life of the facility | .5 | 822 operations | 411
132(b)(3) | During inspections make records available as requested by inspectors | 2 | 130 lessees/ operators | 260
Subtotal | 3,514 responses | 5,795
Total Burden | 18,397 responses | 36,239 hours
| $810,200 Fees
*Due to the Amber Resources Company v U.S. litigation involving 36 suspended leases, operators in the Pacific Region did not respond to our inquiry because of the sensitivity of the matter.

Estimated Reporting and Recordkeeping “Non-Hour Cost” Burden: There are three non-hour costs associated with this information collection. The estimated non-hour cost burden is $810,200. Sections 250.143, 250.165, and 250.171 require respondents to pay filing fees when submitting a change in designation of operator, a State lessee applies for a right-of-use and easement, and for either a suspension of operations or production request (SOO/SOP). The application filing fees are required to recover the Federal Government's processing costs. We have not identified any other “non-hour cost” burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on December 13, 2006, we published a Federal Register notice (71 FR 74937) announcing that we would submit this ICR to OMB for approval. The notice provided the required 60-day comment period. In addition, § 250.199 provides the OMB control number for the information collection requirements imposed by the 30 CFR part 250 regulations and forms. The regulation also informs the public that they may comment at any time on the collections of information and provides the address to which they should send comments. We received one comment in response to the Federal Register notice and it was not germane to the IC.

If you wish to comment in response to this notice, you may send your comments to the offices listed under the ADDRESSES section of this notice. OMB has up to 60 days to approve or disapprove the information collection but may respond after 30 days. Therefore, to ensure maximum consideration, OMB should receive public comments by October 1, 2007.

Public Availability of Comments: Before including your address, phone number, e-mail address, or other personal identifying information in your comment, you should be aware that your entire comment—including your personal identifying information—may be made publicly available at any time. While you can ask us in your comment to withhold your personal identifying information from public review, we cannot guarantee that we will be able to do so.

MMS Information Collection Clearance Officer: Arlene Bajusz (202) 208-7744.

Dated: April 13, 2007.
E.P. Danenberger,
Chief, Office of Offshore Regulatory Programs.

Editorial Note: This document was received at the Office of the Federal Register on August 28, 2007.

[FR Doc. E7-17278 Filed 8-30-07; 8:45 am]

BILLING CODE 4310-MR-P